DEPARTMENT OF THE TREASURY

Office of Foreign Assets Control

Sanctions Actions Pursuant to Executive Order 13224

AGENCY: Office of Foreign Assets Control, Treasury.

ACTION: Notice.

SUMMARY: The Department of the Treasury's Office of Foreign Assets Control (OFAC) is publishing the names of 4 individuals and 4 entities whose property and interests in property are blocked pursuant to Executive Order 13224 of September 23, 2001, “Blocking Property and Prohibiting Transactions With Persons Who Commit, Threaten To Commit, or Support Terrorism.”

DATES: OFAC's actions described in this notice were effective on February 3, 2017.

FOR FURTHER INFORMATION CONTACT: Associate Director for Global Targeting, tel.: 202-622-2420, Assistant Director for Sanctions Compliance & Evaluation, tel.: 202-622-2490, Assistant Director for Licensing, tel.: 202-622-2480, Office of Foreign Assets Control, or Chief Counsel (Foreign Assets Control), tel.: 202-622-2410, Office of the General Counsel, Department of the Treasury (not toll free numbers).

SUPPLEMENTARY INFORMATION:

Electronic Availability

The SDN List and additional information concerning OFAC sanctions programs are available from OFAC's Web site (www.treas.gov/ofac).

Notice of OFAC Actions

On February 3, 2017, OFAC blocked the property and interests in property of the following 4 individuals and 4 entities pursuant to E.O. 13224, “Blocking Property and Prohibiting Transactions With Persons Who Commit, Threaten To Commit, or Support Terrorism”:

Individual(s)

1. AL-HAJJ, Yahya (a.k.a. AL-HAJ, Yahya; a.k.a. AL-HAJ, Yehia Issa Mohamad); DOB 23 May 1959; POB Aramta, Lebanon; Additional Sanctions Information—Subject to Secondary Sanctions; Gender Male; Passport RL 2544590 (Lebanon) issued 07 Jun 2013 expires 07 Jun 2018 (individual) [SDGT] [IRGC] [IFSR].

2. EBRAHIMI, Hasan Dehghan (a.k.a. IBRAHIMI, Hasan Dahqan); DOB 21 Mar 1961; POB Dezfool, Iran; Additional Sanctions Information—Subject to Secondary Sanctions; Gender Male; Passport U19707756 (Iran) issued 12 May 2011 expires 11 May 2016 (individual) [SDGT] [IRGC] [IFSR].

3. FARHAT, Muhammad 'Abd-al-Amir (a.k.a. FARHAT, Mohammad; a.k.a. FARHAT, Mohammad Abdul Amir); DOB 23 Aug 1969; POB Kuwait; Additional Sanctions Information—Subject to Secondary Sanctions; Gender Male; Passport RL 2325452 (Lebanon) expires 31 Jul 2017 (individual) [SDGT] [IRGC] [IFSR].

4. SHARIFI, Ali (a.k.a. SALEHI, Ali); DOB 23 Feb 1966; POB Tehran, Iran; Additional Sanctions Information—Subject to Secondary Sanctions; Gender Male; Passport M31335740 (Iran); alt. Passport U30608043 (Iran) (individual) [SDGT] [IRGC] [IFSR].

Entities

1. MAHER TRADING AND CONSTRUCTION COMPANY (a.k.a. MAHER TRADING AND ENGINEERING; a.k.a. “MAHER COMPANY”), Concord building, 7th floor, Verdan, Beirut, Lebanon; Harik Harik, on the street near al-Husnayn Mosque, Malik bin Qazzam, 5th floor, Beirut, Lebanon; Additional Sanctions Information—Subject to Secondary Sanctions [SDGT] [IRGC] [IFSR].

2. MIRAGE FOR ENGINEERING AND TRADING (a.k.a. “MIRAGE FOR ENGINEERING”), Kalim Bechara Building, 2nd floor, Trabulsi Street, Badaro, Beirut, Lebanon; Additional Sanctions Information—Subject to Secondary Sanctions [SDGT] [IRGC] [IFSR].

3. MIRAGE FOR WASTE MANAGEMENT AND ENVIRONMENTAL SERVICES SARL, P.O. Box 113/6655, Msieleh Main Road, Rabiyeh Building, 2nd floor, Msieheh, Lebanon; Web site www.miragewm.com; Additional Sanctions Information—Subject to Secondary Sanctions [SDGT] [IRGC] [IFSR].

4. REEM PHARMACEUTICAL (a.k.a. REEM PHARMACEUTICAL, LLC; a.k.a. REEM PHARMACEUTICAL, S.A.R.L.; a.k.a. REEM PHARMACEUTICAL, SAL), Kalim Bechara Building, 2nd floor, Trabolsi Street, Badaro, Beirut, Lebanon; Web site www.reempharma.com; Additional Sanctions Information—Subject to Secondary Sanctions [SDGT] [IRGC] [IFSR].

Dated: February 3, 2017.
Andrea M. Gacki,
Acting Director, Office of Foreign Assets Control.

[FR Doc. 2017-02569 Filed 2-7-17; 8:45 am]

BILLING CODE 4810-AL-P